DEPARTMENT OF LABOR

Employment and Training Administration

[TA-W-58,369]

Agere Systems, Inc.; Orlando, FL; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on December 19, 2005, applicable to workers of Agere Systems, Inc., Orlando, Florida. The workers are engaged in employment related to the production of integrated circuits.

By letter dated March 2, 2006, the International Brotherhood of Electrical Workers, Local Union 2000, provided new information which indicated that the intention was to apply for all Trade Act benefits available at the time of the filing (November 3, 2005). Therefore, the Department has made a decision to investigate further to determine whether the subject workers are eligible to apply for Alternative Trade Adjustment Assistance.

The investigation revealed that a significant number of workers of the subject firm are age 50 or over, workers have skills that are not easily transferable, and conditions in the industry are adverse.

Review of this information shows that all eligibility criteria under section 246 of the Trade Act of 1974 (26 U.S.C. 2813), as amended, have been met for workers at the subject firm.

Accordingly, the Department is amending the certification to reflect its finding.

The amended notice applicable to TA-W-58,369 is hereby issued as follows:

“All workers of Agere Systems, Inc., Orlando, Florida, who became totally or partially separated from employment on or after November 3, 2004 through December 19, 2007, are eligible to apply for adjustment assistance under section 223 of the Trade Act of 1974, and are also eligible to apply for Alternative Trade Adjustment Assistance under section 246 of the Trade Act of 1974, as amended.”

Signed at Washington, DC, this 19th day of April 2006.
Elliott S. Kushner,
Certifying Officer, Division of Trade Adjustment Assistance.

[FR Doc. E6-6404 Filed 4-27-06; 8:45 am]

BILLING CODE 4510-30-P